DEPARTMENT OF COMMERCE

Foreign-Trade Zones Board

[Docket No. 51-2000]

Foreign-Trade Zone 125—South Bend, IN; Application for Subzone Status; Audiovox Specialized Applications, LLC Plant (Motor Vehicle Audio/Video Products), Elkhart, Indiana

An application has been submitted to the Foreign-Trade Zones Board (the Board) by the St. Joseph County Airport Authority, grantee of FTZ 125, requesting special-purpose subzone status for the motor vehicle audio/video products manufacturing plant of Audiovox Specialized Applications, LLC (ASA) (a subsidiary of Audiovox Corporation), located in Elkhart, Indiana. The application was submitted pursuant to the provisions of the Foreign-Trade Zones Act, as amended (19 U.S.C. 81a-81u), and the regulations of the Board (15 CFR part 400). It was formally filed on August 14, 2000.

The ASA plant (8 acres/130,000 sq. ft.) is located at 23319 Cooper Drive, Elkhart (Elkhart County) Indiana, about 15 miles east of South Bend, Indiana. The facility (225 employees) is used to produce and distribute foreign-made motor vehicle audio and audio-visual products, including am-fm radio/cassette players, am-fm radio/compact disc players, compact disc players, speakers, video observation systems, TV/VCR/DVD entertainment systems; and, flip down and integrated small video screens for export and the domestic market. The finished products are used in automotive, heavy duty/construction equipment, and marine product applications (some of ASA's products may also be for consumer use). The production process involves design, assembly, testing, and warehousing. Components purchased from abroad (ranging between 60 to 95% of overall material value) used in manufacturing include: flexible wire, integrated circuits, printed circuit boards, transistors, fuses/holders, CRT sockets, tuners, DC power cords, cables, roller guides, roof pods/speaker enclosures, mounting brackets, bushings, gaskets/seals, AC adaptors, remote controls, mesh grilles, headphone/jacks/covers, plates, fasteners, speakers, antennas and leads, housings, AM-FM radio/cassettes, radios, video cassette players, compact disk players, color televisions (5, 9, 13 inch), microwave ovens, alarms, liquid crystal display modules, flexible monitors and 12″ flat panel TV screens, cabinets, door locks, knobs, cam and reel gears, and idler plates (duty rate range: free-4.9%). Additional foreign-sourced finished products to be distributed domestically include: Color televisions, video cameras, public address systems, marine radios, microphones, rechargeable flashlights, installation kits, headphones, and 12 volt car vacuum cleaners (duty rate range: free-12.5%).

FTZ procedures would exempt ASA from Customs duty payments on the foreign components used in export production. On its domestic sales, the company would be able to choose the duty rates that apply to finished motor vehicle audio and audio-visual products (duty free-4.4%) for the foreign inputs noted above. On ASA's automotive original equipment sales, the motor vehicle duty rate (2.5%) may be applied to the finished automotive audio/video products that are shipped in-bond to U.S. motor vehicle assembly plants with subzone status. The application indicates that subzone status would help improve the plant's international competitiveness.

In accordance with the Board's regulations, a member of the FTZ Staff has been designated examiner to investigate the application and report to the Board.

Public comment on the application is invited from interested parties. Submissions (original and three copies) shall be addressed to the Board's Executive Secretary at the address below. The closing period for their receipt is October 23, 2000. Rebuttal comments in response to material submitted during the foregoing period may be submitted during the subsequent 15-day period to November 6, 2000).

A copy of the application and the accompanying exhibits will be available for public inspection at each of the following locations.

Office of the Port director, U.S. Customs Service-Chicago, 610 Canal Street, Chicago, IL 60607

Office of the Executive Secretary, Foreign-Trade Zones Board, U.S. Department of Commerce, Room 4008, 14th Street & Pennsylvania Avenue, NW, Washington, DC 20230-0002

Dated: August 14, 2000.
Dennis Puccinelli,
Executive Secretary.

[FR Doc. 00-21560 Filed 8-22-00; 8:45 am]

BILLING CODE 3510-DS-P